DEPARTMENT OF ENERGY

Privacy Act of 1974; System of Records

AGENCY: U.S. Department of Energy.

ACTION: Notice of a new system of records.

SUMMARY: As required by the Privacy Act of 1974 and the Office of Management and Budget (OMB) Circulars A-108 and A-130, the Department of Energy (DOE or the Department) is publishing notice of a newly established Privacy Act system of records. DOE proposes to establish System of Records DOE-42 Nondiscrimination in Federally Assisted Programs Files. This System contains information on individuals who engage with entities that may receive Federal financial assistance (FFA) from the Department. The information is necessary to ensure the programs and activities of entities that receive FFA comply with Federal civil rights laws prohibiting discrimination against any individual on the basis of race, color, national origin, sex, disability, or age. The information is used by the DOE's Office of Energy Justice and Equity's, Office of Civil Rights and Equal Employment Opportunity (OCR-EEO) to fulfill the requirements outlined in Federal law.

DATES: This System of Records Notice (SORN) will become applicable following the end of the public comment period on October 21, 2024 unless comments are received that result in a contrary determination.

ADDRESSES: Written comments should be sent to the DOE Desk Officer, Office of Information and Regulatory Affairs, Office of Management and Budget, New Executive Office Building, Room 10102, 735 17th Street NW, Washington, DC 20503, and to Ken Hunt, Chief Privacy Officer, U.S. Department of Energy, 1000 Independence Avenue SW, Rm. 8H-085, Washington, DC 20585, or by facsimile at (202) 586-8151, or by email at privacy@hq.doe.gov.

FOR FURTHER INFORMATION CONTACT: Ken Hunt, Chief Privacy Officer, U.S. Department of Energy, 1000 Independence Avenue SW, Rm 8H-085, Washington, DC 20585, or by facsimile at (202) 586-8151, by email at privacy@hq.doe.gov, or by telephone at (240) 686-9485.

SUPPLEMENTARY INFORMATION: System of Records DOE-42 Nondiscrimination in Federally Assisted Programs Files is maintained by the U.S. Department of Energy (Department) Office of Energy Justice and Equity, Office of Civil Rights and Equal Employment Opportunity (OCR-EEO). This system provides a central electronic repository to: (i) maintain all records used by OCR-EEO personnel in making Federal civil rights compliance determinations with accuracy, relevance, timeliness, and completeness to assure fairness to the individual(s) in the determination; (ii) create appropriate administrative, technical, and physical safeguards that ensure the security and confidentiality of records and protect against any anticipated threats or hazards to their security or integrity and; (iii) create rules of conduct for authorized OCR-EEO personnel involved in the operation, maintenance, and routine uses for this system records.

SYSTEM NAME AND NUMBER:

DOE-42 Nondiscrimination in Federally Assisted Program Files.

SECURITY CLASSIFICATION:

Unclassified.

SYSTEM LOCATION:

Systems leveraging this SORN may exist in multiple locations. All systems storing records in a cloud-based server are required to use government-approved cloud services and follow National Institute of Standards and Technology (NIST) security and privacy standards for access and data retention. Records maintained in a government-approved cloud server are accessed through secure data centers in the continental United States.

U.S. Department of Energy, Headquarters, 1000 Independence Avenue SW, Washington, DC 20585.

U.S. Department of Energy, John A. Gordon Albuquerque Complex, 24600 20th Street SE, Albuquerque, NM 87116.

U.S. Department of Energy, Bonneville Power Administration, P.O. Box 3621, Portland, OR 97208.

U.S. Department of Energy, Environmental Management Consolidated Business Center (EMCBC), 550 Main Street, Room 7-010, Cincinnati, OH 45202.

U.S. Department of Energy, Golden Field Office, 15013 Denver West Parkway, Golden, CO 80401.

U.S. Department of Energy, Idaho Operations Office, 1955 Fremont Avenue, Idaho Falls, ID 83415.

U.S. Department of Energy, National Energy Technology Laboratory (Pittsburgh), 626 Cochran Mill Road, Pittsburgh, PA 15236.

U.S. Department of Energy, National Energy Technology Laboratory (Morgantown), 3610 Collins Ferry Road, Morgantown, WV 26505.

U.S. Department of Energy, National Energy Technology Laboratory (Albany), 1450 Queen Avenue SW, Albany, OR 97321.

U.S. Department of Energy, Office of Science, Consolidated Service Center, P.O. Box 2001, Oak Ridge, TN 37831.

U.S. Department of Energy, Hanford Field Office, P.O. Box 550, Richland, WA 99352.

U.S. Department of Energy, Southeastern Power Administration, 1166 Athens Tech Road, Elberton, GA 30635-6711.

U.S. Department of Energy, Southwestern Power Administration, One West Third Street, Suite 1500, Tulsa, OK 74103.

U.S. Department of Energy, Strategic Petroleum Reserve Project Management Office, 900 Commerce Road East, New Orleans, LA 70123.

U.S. Department of Energy, Western Area Power Administration, P.O. Box 281213, Lakewood, CO 80228-8213.

SYSTEM MANAGER(S):

Headquarters: Office of Civil Rights and Equal Employment Opportunity (OCR-EEO), U.S. Department of Energy, 1000 Independence Avenue SW, Washington, DC 20585.

Field Offices: Office of Civil Rights and Equal Employment Opportunity (OCR-EEO) at the “System Locations” listed above are the system managers for their respective portions of this system.

AUTHORITY FOR MAINTENANCE OF THE SYSTEM:

Title VI of the Civil Rights Act of 1964, 42 U.S.C. 2000d et seq., (Title VI) and implementing regulations at 10 CFR part 1040, subparts A and B; Section 504 of the Rehabilitation Act of 1973, as amended, 29 U.S.C. 794 and implementing regulations at 10 CFR part 1040, subpart D; The Age Discrimination Act of 1975, as amended, 42 U.S.C. 6101 et seq., and implementing regulations at 10 CFR part 1040, subpart E; Section 16 of the Federal Energy Administration Act of 1974, as amended, Public Law 93-275; Section 401 of the Energy Reorganization Act of 1974, Pub. L. 93-438; Title IX of the Education Amendments of 1972, as amended, 20 U.S.C. 1681 et seq. (Title IX) and implementing regulations at 10 CFR part 1042; Title VIII of the Civil Rights Act of 1968, Public Law 90-284.

PURPOSE(S) OF THE SYSTEM:

The Office of Civil Rights and Equal Employment Opportunity (OCR-EEO) maintains the DOE-42 System of Records for the following purposes:

1. Pre-award Review: Prior to award, and as a condition of approval, applications for Federal financial assistance (FFA) are subject to review by OCR-EEO. The basis for an OCR-EEO pre-award review is the submission of assurances by FFA applicants, agreeing that their programs and activities will be operated in compliance with Federal civil rights laws and Department regulations. Where a determination of compliance cannot be made from such assurances, OCR-EEO may require FFA applicants to submit additional information and may take other steps necessary to make a compliance determination.

2. Compliance Information: Each FFA recipient must submit timely, complete, and accurate reports as OCR-EEO may deem necessary to determine whether the programs and activities of the FFA recipient comply with Federal civil rights laws and Department regulations. Generally, FFA recipients must have data available on program participants, as well as any subrecipients and subcontractors to which it extends its FFA. The FFA recipient also may be required to permit OCR-EEO access to other sources of information necessary to ascertain its compliance with Federal civil rights laws and Department regulations.

3. Complaint investigations: When OCR-EEO receives a formal complaint or equivalent correspondence alleging discrimination in any program or activity operated by any entity to which the Department may have extended FFA, OCR-EEO may need to collect information from or about individuals in order to: (1) determine whether the Department has jurisdiction over the alleged discriminating entity; (2) if jurisdiction is not found, refer the complaint to the Federal agency with jurisdiction wherever possible; (3) if jurisdiction is found, notify the alleged discriminating entity (FFA recipient) of OCR-EEO's receipt of the complaint, the nature of the complaint, and with written consent of the complainant(s) or OCR-EEO authority, the identity of the complainant(s); (4) identify the FFA recipient programs or activities affected by the complaint; (5) provide an opportunity for the FFA recipient to respond to, rebut, or deny the allegations made in the complaint; (6) maintain a schedule under which the complaint will be investigated; (7) conduct an investigation and issue preliminary findings; (8) make recommendations and engage in negotiations to achieve voluntary compliance by the FFA recipient; (9) memorialize any agreement by the FFA recipient to achieve voluntary compliance, with corresponding notification to the complainant(s), and; (10) record any other means authorized by law to effect compliance by the FFA recipient.

4. Compliance Reviews: OCR-EEO periodically conducts compliance reviews of FFA recipients, and accordingly, may collect information from or about individuals in order to: (1) select FFA recipients for review; (2) determine the practices to be reviewed; (3) determine the programs or activities affected by the review; (4) provide an opportunity for FFA recipients to explain, validate, or otherwise address the practices under review; (5) maintain a schedule under which the reviews will be conducted; (6) conduct the reviews and issue preliminary findings; (7) make recommendations and engage in negotiations to achieve voluntary compliance by FFA recipients; (8) memorialize any agreement with FFA recipients to achieve voluntary compliance and; (9) record any other means authorized by law to effect compliance by FFA recipients.

CATEGORIES OF INDIVIDUALS COVERED BY THE SYSTEM:

This system maintains information on: (1) Individuals affiliated with FFA applicants and FFA recipients, subrecipients, licensees, and contractors; (2) Individuals who apply to, participate in, benefit from, or otherwise engage with programs or activities operated by FFA applicants and FFA recipients; (3) Complainants, subjects, victims, witnesses, parents/legal guardians, advocates or other authorized representatives, and (4) Individuals to whom the Department provides technical assistance due to their limited English proficiency or need for reasonable accommodation due to disability.

CATEGORIES OF RECORDS IN THE SYSTEM:

Categories of records in this system relate to OCR-EEO pre-award reviews, complaint investigations, compliance reviews and technical assistance, for which, information about individuals includes but is not limited to: full name, street address, telephone number, email address, academic record, employment record, occupational status, demographic data (race, color, national origin, sex, disability, age), parental/marital status, household/housing status, income level, and energy access.

RECORD SOURCE CATEGORIES:

The information maintained in this system is obtained directly from the individuals to whom it pertains, or from the parents/legal guardians, authorized representatives, or advocates thereof, or participants, candidates, beneficiaries, licensees, contractors, or third parties engaged with programs and activities operated by any entities that may receive Federal financial assistance (FFA) from the Department. Information may also be obtained directly from entities (FFA applicants and FFA recipients), which can include an instrumentality of state or local government, institution of higher education, corporation, partnership, sole proprietorship, other private organization, or any combination thereof.

ROUTINE USES OF RECORDS MAINTAINED IN THE SYSTEM, INCLUDING CATEGORIES OF USERS AND PURPOSES OF SUCH USES:

Any disclosures of information from this system of records will be compatible with the purpose for which OCR-EEO collects the information. Information from this system may be disclosed to the individual to whom it pertains, or: (1) to the individual's next-of kin, parent, guardian, or emergency contact in the event of a mishap involving that individual; (2) to the public about an individual's involvement with OCR-EEO with the written consent of that individual; or (3) in accordance with OCR-EEO standard routine uses as follows:

1. A record from this system may be disclosed as a routine use to the appropriate local, state or federal agency when records alone or in conjunction with other information, indicates a violation or potential violation of law whether civil, criminal, or regulatory in nature, and whether arising by general statute or particular program pursuant thereto.

2. A record from this system may be disclosed as a routine use for the purpose of an investigation, settlement of claims, or the preparation and conduct of litigation to (1) persons representing the Department in the investigation, settlement or litigation, and to individuals assisting in such representation; (2) others involved in the investigation, settlement, and litigation, and their authorized representatives and individuals assisting those representatives; (3) witnesses, potential witnesses, or their representatives and assistants; and (4) any other persons who possess information pertaining to the matter when it is relevant and necessary to obtain information or testimony relevant to the matter.

3. A record from this system may be disclosed as a routine use in court or administrative proceedings to the tribunals, counsel, other parties, witnesses, and the public (in publicly available pleadings, filings, or discussion in open court) when such disclosure: (1) is relevant to, and necessary for, the proceeding; (2) is compatible with the purpose for which the Department collected the records; and (3) the proceedings involve:

a. The Department, its predecessor agencies, current or former contractor of the Department, or other United States Government agencies and their components, or

b. A current or former employee of the Department and its predecessor agencies, current or former contractors of the Department, or other United States Government agencies and their components, who is acting in an official capacity or in any individual capacity where the Department or other United States Government agency has agreed to represent the employee.

4. A record from this system may be disclosed as a routine use to DOE contractors in performance of their contracts, and their officers and employees who have a need for the record in the performance of their duties. Those provided information under this routine use are subject to the same limitations applicable to Department officers and employees under the Privacy Act.

5. A record from this system may be disclosed as a routine use to appropriate agencies, entities, and persons when (1) the Department suspects or has confirmed that there has been a breach of the system of records; (2) the Department has determined that as a result of the suspected or confirmed breach there is a risk of harm to individuals, DOE (including its information systems, programs, and operations), the Federal Government, or national security; and (3) the disclosure made to such agencies, entities, and persons is reasonably necessary to assist in connection with the Department's efforts to respond to the suspected or confirmed breach or to prevent, minimize, or remedy such harm.

6. A record from this system may be disclosed as a routine use to another Federal agency or Federal entity, when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

7. A record from this system may be disclosed as a routine use to a federal, state, or local agency maintaining civil, criminal, or other relevant enforcement information or other pertinent information, such as current licenses, if necessary to obtain information relevant to an agency decision concerning the hiring or retention of an employee, the issuance of a security clearance, the letting of a contract, or the issuance of a license, grant, or other benefit.

8. A record from this system may be disclosed as a routine use for the production of descriptive and inferential statistics and analytical studies in support of the function for which the records are collected and maintained.

9. A record from this system may be disclosed as a routine use to the Equal Employment Opportunity Commission (EEOC) when requested in connection with the employment policies and practices of recipients of Federal financial assistance.

10. A record from this system may be disclosed as a routine use to a Member of Congress in response to an inquiry of the Congressional office made at the request of the individual about whom the record is maintained.

11. A record from this system may be disclosed as a routine use to representatives of the General Services Administration and the National Archives and Records Administration (NARA) during the course of records management inspections conducted under the authority of 44 U.S.C. 2904 and 2906.

12. A record from this system may be disclosed as a routine use to the U.S. Department of Justice or the Office of Management and Budget (OMB) if OCR-EEO determines that disclosure is desirable or necessary in determining whether particular records are required to be disclosed under the FOIA or the Privacy Act.

13. A record from this system may be disclosed as a routine use to the news media and the public when: (1) a matter has become public knowledge; (2) OCR-EEO determines that disclosure is necessary to preserve confidence in the integrity of OCR-EEO or is necessary to demonstrate the accountability of OCR-EEO's officers, employees, or individuals covered by this system; or (3) OCR-EEO determines that there exists a legitimate public interest in the disclosure of the information, except to the extent that OCR-EEO determines in any of these situations that disclosure of specific information in the context of a particular case would constitute an unwarranted invasion of personal privacy.

POLICIES AND PRACTICES FOR STORAGE OF RECORDS:

The records in this system consist of electronic media.

POLICIES AND PRACTICES FOR RETRIEVAL OF RECORDS:

Records may be retrieved from the system by one or more personal identifiers, including, but not limited to: individual last name, telephone number, email address, street address, Data Universal Numbering System (DUNS), complaint number, or other unique identifier.

POLICIES AND PRACTICES FOR RETENTION AND DISPOSAL OF RECORDS:

Retention and disposition of these records is in accordance with the National Archives and Records Administration approved records. Records in this system are currently unscheduled, which requires the records to be retained as permanent until NARA approves a DOE Records Disposition Schedule.

ADMINISTRATIVE, TECHNICAL, AND PHYSICAL SAFEGUARDS:

Electronic records may be secured and maintained on a cloud-based software server and operating system that resides in Federal Risk and Authorization Management Program (FedRAMP) and Federal Information Security Modernization Act (FISMA) hosting environment. Data located in the cloud-based server is firewalled and encrypted at rest and in transit. The security mechanisms for handling data at rest and in transit are in accordance with DOE encryption standards. Records are protected from unauthorized access through the following appropriate safeguards:

• Administrative: Access to all records is limited to lawful government purposes only, with access to electronic records based on role and either two-factor authentication or password protection. The system requires passwords to be complex and to be changed frequently. Users accessing system records undergo frequent training in Privacy Act and information security requirements. Security and privacy controls are reviewed on an ongoing basis.

• Technical: Computerized records systems are safeguarded on Departmental networks configured for role-based access based on job responsibilities and organizational affiliation. Privacy and security controls are in place for this system and are updated in accordance with applicable requirements as determined by NIST and DOE directives and guidance.

• Physical: Computer servers on which electronic records are stored are located in secured Department facilities, which are protected by security guards, identification badges, and cameras. Paper copies of all records are locked in file cabinets, file rooms, or offices and are under the control of authorized personnel. Access to these facilities is granted only to authorized personnel and each person granted access to the system must be an individual authorized to use or administer the system.

RECORD ACCESS PROCEDURES:

The Department follows the procedures outlined in 10 CFR 1008.4. Valid identification of the individual making the request is required before information will be processed, given, access granted, or a correction considered, to ensure that information is processed, given, corrected, or records disclosed or corrected only at the request of the proper person.

CONTESTING RECORD PROCEDURES:

Any individual may submit a request to the System Manager and request a copy of any records relating to them. In accordance with 10 CFR 1008.11, any individual may appeal the denial of a request made by him or her for information about or for access to or correction or amendment of records. An appeal shall be filed within 90 calendar days after receipt of the denial. When an appeal is filed by mail, the postmark is conclusive as to timeliness. The appeal shall be in writing and must be signed by the individual. The words “PRIVACY ACT APPEAL” should appear in capital letters on the envelope and the letter. Appeals relating to DOE records shall be directed to the Director, Office of Hearings and Appeals (OHA), 1000 Independence Avenue SW, Washington, DC 20585.

NOTIFICATION PROCEDURES:

In accordance with the DOE regulation implementing the Privacy Act, 10 CFR part 1008, a request by an individual to determine if a system of records contains information about themselves should be directed to the U.S. Department of Energy, Headquarters, Privacy Act Officer. The request should include the requester's complete name and the time period for which records are sought.

EXEMPTIONS PROMULGATED FOR THE SYSTEM:

The system is exempt under subsections 552a(k)(2) of the Privacy Act to the extent that information within the system meets the criteria of those subsections of the Act. Such information has been exempted from the provisions of subsections (c)(3); 5 U.S.C. 552a(d) and (e)(1) of the Act; see the DOE Privacy Act regulation at 10 CFR part 1008.

HISTORY:

This notice proposes to establish DOE-42 Nondiscrimination in Federally Assisted Program Files as a new system of records. There has been no previous publication in the Federal Register pertaining to this system of records.

Signing Authority

This document of the Department of Energy was signed on September 9, 2024, by Ann Dunkin, Senior Agency Official for Privacy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 10, 2024.
Treena V. Garrett,
Federal Register Liaison Officer, U.S. Department of Energy.

[FR Doc. 2024-20839 Filed 9-19-24; 8:45 am]

BILLING CODE 6450-01-P